DEPARTMENT OF TRANSPORTATION

Federal Aviation Administration

14 CFR Part 39

[Docket No. 2001-NM-216-AD; Amendment 39-13578; AD 2004-08-09]

RIN 2120-AA64

Airworthiness Directives; Airbus Model A300 B2 and B4 Series Airplanes; Model A300 B4-600, B4-600R, and F4-600R (Collectively Called A300-600) Series Airplanes; and Model A310 Series Airplanes

AGENCY: Federal Aviation Administration, DOT.

ACTION: Final rule.

SUMMARY: This amendment adopts a new airworthiness directive (AD), applicable to certain Airbus Model A300 B2 and B4 series airplanes; Model A300 B4-600, B4-600R, and F4-600R (collectively called A300-600) series airplanes; and Model A310 series airplanes. This AD requires various modifications and repetitive inspections of the throttle control system, and follow-on actions if necessary. This action is necessary to prevent hard points in the throttle control system that could lead to jamming of the throttle control cable. Such jamming could result in an asymmetric thrust condition and consequent reduced controllability of the airplane. This action is intended to address the identified unsafe condition.

DATES: Effective May 24, 2004.

The incorporation by reference of certain publications listed in the regulations is approved by the Director of the Federal Register as of May 24, 2004.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A300 B2 and B4 series airplanes; Model A300 B4-600, B4-600R, and F4-600R (collectively called A300-600) series airplanes; and Model A310 series airplanes; was published in the Federal Register on October 30, 2003 (68 FR 61768). That action proposed to require various modifications and repetitive inspections of the throttle control system, and follow-on actions if necessary.

Comments

Interested persons have been afforded an opportunity to participate in the making of this amendment. The FAA has given due consideration to the comments received.

One commenter states that it will not be affected by the proposed AD.

Request To Revise Repetitive Inspection Interval

One commenter requests that we revise the interval for the repetitive inspections in the proposed AD from 500 flight hours to 500 flight cycles. The commenter's rationale is that it anticipates significant economic or operational impact due to incorporation of the requirements of the proposed AD.

We do not concur because we find that we do not need to revise this final rule to meet the intent of the commenter's request. While the initial inspection is required within 500 flight hours after the effective date of this AD, the repetitive inspections are required at intervals not to exceed 2,000 flight hours. No change to the final rule is necessary.

Request To Consider Parts Availability

The same commenter requests that we consider the availability of the parts necessary to accomplish the terminating action—replacement of the existing throttle control cable assembly with a new, improved assembly. The commenter states that, in the past, necessary parts have been unavailable from the manufacturer.

We do not concur. The terminating action stated in paragraph (e) of this AD is optional. Therefore, there is no compliance time constraint in which parts availability should be a factor. No change to the final rule is necessary.

Conclusion

After careful review of the available data, including the comments noted above, the FAA has determined that air safety and the public interest require the adoption of the rule as proposed.

Cost Impact

The table below contains the FAA's estimates of the cost impact of the actions that are required by this AD on U.S. operators, at an average labor rate of $65 per work hour.

Cost Impact: U.S.-Registered Airplanes
Actions in Airbus service bulletin— | Work hours | Parts cost | Estimated number of airplanes of U.S. registry | Estimated cost per airplane | Estimated fleet cost
A300-76-0007, Revision 06 | 30 | $0 | 36 | $1,950 | $70,200
A300-76-0015, Revision 02 | 11 | 1,726 | 36 | 2,441 | 87,876
A300-76-0016, Revision 03 | 1 | 193 | 24 | 258 | 6,192
A300-76-6002, Revision 02 | 1 | 80 | 83 | 145 | 12,035
A300-76-6007, Revision 01 | 8 | None | 71 | 520 | 36,920
A300-76-6009, Revision 02 | 6 | 28 | 67 | 418 | 28,006
A310-76-2001, Revision 01 | 11 | 4,469 | 33 | 5,184 | 171,072
A310-76-2004, Revision 03 | 25 | 26 | 25 | 1,651 | 41,275
A310-76-2005, Revision 01 | 1 | 153 | 46 | 218 | 10,028
A310-76-2006, Revision 03 | 2 | None | 16 | 130 | 2,080
A310-76-2012, Revision 02 | 6 | 28 | 25 | 418 | 10,450

Currently, there are no airplanes on the U.S. Register that are affected by Airbus Service Bulletin A300-76-6003, Revision 04, or A310-76-2010, Revision 03. However, if an affected airplane is imported and placed on the U.S. Register in the future, the table below shows the estimated cost of the actions that will be required by this AD for an affected airplane, at an average labor rate of $65 per work hour.

Potential Cost Impact: Airplane Added to U.S. Register in the Future
Airplanes subject to the actions in Airbus service bulletin— | Work hours | Parts cost | Estimated cost per airplane
A300-76-6003, Revision 04 | 2 | $0 | $130
A310-76-2010, Revision 03 | 8 | 0 | 520

If an operator chooses to do the optional terminating action in Airbus Service Bulletin A300-76-6004, Revision 01, or A310-76-2007, Revision 2; rather than continue the repetitive inspections in Airbus Service Bulletin A300-76-6003, Revision 04, or A310-76-2006, Revision 03, respectively; it would take about 20 work hours per airplane to accomplish the optional terminating action, at an average labor rate of $65 per work hour. Required parts would cost about $18,800 per airplane. Based on these figures, we estimate the cost of this optional terminating action to be $20,100 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-08-09 Airbus: Amendment 39-13578. Docket 2001-NM-216-AD

.

Applicability: Airplanes as listed in Table 1 of this AD, certificated in any category.

Table 1.—Applicability
Airplane models | As listed in Airbus Service Bulletin—
A300 B2 and B4 series | A300-76-0007, Revision 06, dated August 23, 2001.
A300 B2 and B4 series | A300-76-0015, Revision 02, dated August 23, 2001.
A300 B2 and B4 series | A300-76-0016, Revision 03, dated August 23, 2001.
A300 B4-620, B4-622, and C4-620 | A300-76-6002, Revision 02, dated August 23, 2001.
A300 B4-620 | A300-76-6003, Revision 04, dated February 26, 2002.
A300 B4-601, -603, and -605R | A300-76-6007, Revision 01, dated March 14, 2000.
A300 B4-601, B4-603, B4-605R, and C4-605R Variant F | A300-76-6009, Revision 02, dated October 29, 1999.
A310-203, -204, -221, and -222 | A310-76-2001, Revision 01, dated March 14, 2000.
A310-203 | A310-76-2004, Revision 03, dated August 23, 2001.
A310-203, -221, and -222 | A310-76-2005, Revision 01, dated March 14, 2000.
A310-221, -222, and -322 | A310-76-2006, Revision 03, dated February 26, 2002.
A310-204 and -304 | A310-76-2010, Revision 03, dated August 23, 2001.
A310-203, -204, and -304 | A310-76-2012, Revision 02, dated November 5, 2001.

Compliance: Required as indicated, unless accomplished previously.

To prevent hard points in the throttle control system that could lead to jamming of the throttle control cable, which could result in an asymmetric thrust condition and consequent reduced controllability of the airplane, accomplish the following:

Modifications

(a) Within 22 months after the effective date of this AD, do the actions specified in paragraphs (a)(1), (a)(2), (a)(3), (a)(4), (a)(5), and (a)(6) of this AD; as applicable.

(1) For airplanes listed in Airbus Service Bulletin A300-76-0007, Revision 06, dated August 23, 2001: Install a flexible ice protection boot on the upper fitting of the throttle and fuel shut-off valve control cables in each engine pylon, per the Accomplishment Instructions of that service bulletin.

(2) For airplanes listed in Airbus Service Bulletin A300-76-0015, Revision 02, dated August 23, 2001; or A310-76-2001, Revision 01, dated March 14, 2000: Install a heating system for the throttle control system in each engine pylon, per the Accomplishment Instructions of the applicable service bulletin.

(3) For airplanes listed in Airbus Service Bulletin A300-76-0016, Revision 03, dated August 23, 2001; A300-76-6002, Revision 02, dated August 23, 2001; or A310-76-2005, Revision 01, dated March 14, 2000: Replace, with new improved parts, the roller and rotation pin of the secondary relay lever of the throttle control system in each engine pylon. Accomplish the replacement per the Accomplishment Instructions of the applicable service bulletin.

(4) For airplanes listed in Airbus Service Bulletin A300-76-6007, Revision 01, dated March 14, 2000; or A310-76-2010, Revision 03, dated August 23, 2001: Install a new cooling duct and a new cooling shroud for the throttle control cable, per the instructions in the “Description” section of Airbus Service Bulletin A300-76-6007, Revision 01; or per the Accomplishment Instructions of A310-76-2010, Revision 03; as applicable.

Note 1: Airbus Service Bulletins A300-76-6007, Revision 01; and A310-76-2010, Revision 03; refer to GE CF6-80C2 Service Bulletins 71-088, Revision 3, dated March 15, 1991; and 75-021, Revision 3, dated August 5, 1992; for additional service information for accomplishing the installation of a new cooling duct and a new cooling shroud for the throttle control cable.

(5) For airplanes listed in Airbus Service Bulletin A300-76-6009, Revision 02, dated October 29, 1999; or A310-76-2012, Revision 02, dated November 5, 2001: Install an elastomer plug filled with grease on the end fitting of the throttle control cable in each engine pylon, per the Accomplishment Instructions of the applicable service bulletin.

(6) For airplanes listed in Airbus Service Bulletin A310-76-2004, Revision 03, dated August 23, 2001: Install a sealing sleeve (also called a sealing boot) on the flexible control ball joint of the throttle control cable in each engine pylon (including a detailed inspection for deterioration of the throttle control cable, and replacement of the throttle control cable, as applicable) by doing all actions in and per the Accomplishment Instructions of the service bulletin. Replacement of the throttle control cable, if required, must be accomplished before further flight.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Accomplishment of Required Actions Per Previous Service Bulletin Revisions

(b) Actions accomplished before the effective date of this AD per previous service bulletin revisions are acceptable for compliance with paragraph (a) of this AD; as specified in paragraph (b)(1), (b)(2), (b)(3), (b)(4), (b)(5), and (b)(6) of this AD; as applicable.

(1) Accomplishment of the installation required by paragraph (a)(1) of this AD per Airbus Service Bulletin A300-76-007, Revision 05, dated March 14, 2000, is acceptable for compliance with paragraph (a)(1) of this AD.

(2) Accomplishment of the installation required by paragraph (a)(2) of this AD per Airbus Service Bulletin A300-76-0015, Revision 01, dated March 14, 2000, is acceptable for compliance with paragraph (a)(2) of this AD.

(3) Accomplishment of the replacement required by paragraph (a)(3) of this AD per Airbus Service Bulletin A300-76-016, Revision 02, dated March 14, 2000; or A300-76-6002, Revision 01, dated March 14, 2000; as applicable; is acceptable for compliance with paragraph (a)(3) of this AD.

(4) Accomplishment of the installation required by paragraph (a)(4) of this AD per Airbus Service Bulletin A310-76-2010, Revision 02, dated March 14, 2000, is acceptable for compliance with paragraph (a)(4) of this AD.

(5) Accomplishment of the installation required by paragraph (a)(5) of this AD per Airbus Service Bulletin A300-76-6009, Revision 01, dated March 5, 1999; or A310-76-2012, Revision 01, dated March 5, 1999; as applicable; is acceptable for compliance with paragraph (a)(5) of this AD.

(6) Accomplishment of all actions required by paragraph (a)(6) of this AD (including a detailed inspection for deterioration of the throttle control cable, and replacement of the throttle control cable, as applicable) per Airbus Service Bulletin A310-76-2004, Revision 02, dated March 14, 2000, is acceptable for compliance with paragraph (a)(6) of this AD.

Repetitive Inspections and Corrective Actions if Necessary

(c) For airplanes listed in Airbus Service Bulletin A300-76-6003, Revision 04, dated February 26, 2002; or A310-76-2006, Revision 03, dated February 26, 2002: Within 500 flight hours after the effective date of this AD, do the inspections and corrective actions, as applicable, required by paragraphs (c)(1) and (c)(2) of this AD, according to the Accomplishment Instructions of the applicable service bulletin. Repeat the inspections and corrective actions, as applicable, thereafter at intervals not to exceed 2,000 flight hours, until paragraph (e) of this AD is accomplished. Although Airbus Service Bulletins A300-76-6003, Revision 04, and A310-76-2006, Revision 03, specify to submit certain information to the manufacturer, this AD does not include such a requirement.

(1) Perform a detailed inspection to detect discrepancies of the throttle control cable (also called the “push-pull” cable) and the rack-box connection in each engine pylon, especially in the area of the cable guide having part number 221-1325-501. Discrepancies include excessive wear, damage, chafing of the cable in the area of a cable guide, backlash outside limits specified in the service bulletin, or excessive play. If any discrepancy is found, before further flight, replace the throttle control cable or the rack-box, as applicable, per the applicable service bulletin.

(2) Perform a detailed inspection for wear or play of the power lever of the hydromechanical control in the area where the rack-box drive tang is installed in the power lever. If any wear or play is found, before further flight, tighten the drive tang expansion screw to take up play, per the applicable service bulletin.

Accomplishment of Required Actions Per Previous Service Bulletin Revisions

(d) Inspections and corrective actions accomplished before the effective date of this AD per Airbus Service Bulletin A300-76-6003, Revision 02, dated June 5, 2000; or Revision 03, dated November 9, 2000; or A310-76-2006, Revision 02, dated June 5, 2000; as applicable; are acceptable for compliance with paragraph (c) of this AD.

Optional Terminating Action

(e) Replacement of the existing throttle control cable assembly with a new improved assembly, per the Accomplishment Instructions of Airbus Service Bulletin A300-76-6004, Revision 01, dated October 11, 2000; or A310-76-2007, Revision 2, dated November 24, 1988; as applicable; constitutes terminating action for the repetitive inspections required by paragraph (c) of this AD.

Alternative Methods of Compliance

(f) In accordance with 14 CFR 39.19, the Manager, International Branch, ANM-116, Transport Airplane Directorate, FAA, is authorized to approve alternative methods of compliance for this AD.

Incorporation by Reference

(g) Unless otherwise specified in this AD, the actions shall be done in accordance with the applicable service bulletins listed in Table 2 of this AD. Table 2 of this AD follows:

Table 2.—Service Bulletins Incorporated by Reference
Airbus service bulletin | Revision | Date
A300-76-0007 | Revision 06 | August 23, 2001.
A300-76-0015 | Revision 02 | August 23, 2001.
A300-76-0016 | Revision 03 | August 23, 2001.
A300-76-6002 | Revision 02 | August 23, 2001.
A300-76-6003 | Revision 04 | February 26, 2002.
A300-76-6004 | Revision 01 | October 11, 2000.
A300-76-6007 | Revision 01 | March 14, 2000.
A300-76-6009 | Revision 02 | October 29, 1999.
A310-76-2001 | Revision 01 | March 14, 2000.
A310-76-2004 | Revision 03 | August 23, 2001.
A310-76-2005 | Revision 01 | March 14, 2000.
A310-76-2006 | Revision 03 | February 26, 2002.
A310-76-2007 | Revision 2 | November 24, 1988.
A310-76-2010 | Revision 03 | August 23, 2001.
A310-76-2012 | Revision 02 | November 5, 2001.

Airbus Service Bulletin A310-76-2005, Revision 01, contains the following effective pages:

Page number | Revision level shown on page | Date shown on page
1-5 | 01 | March 14, 2000.
6-11 | Original | November 26, 1985.

Airbus Service Bulletin A300-76-6004, Revision 01, contains the following effective pages:

Page number | Revision level shown on page | Date shown on page
1-3, 5 | 01 | October 11, 2000.
4, 6-21 | Original | October 22, 1986.

Airbus Service Bulletin A310-76-2007, Revision 2, contains the following effective pages:

Page number | Revision level shown on page | Date shown on page
1, 2, 11 | 2 | November 24, 1988.
3-5, 9, 10, 19-21 | 1 | November 19, 1986.
6-8, 12-18 | Original | September 30, 1986.

This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 2001-072(B) R2, dated January 23, 2002.

Effective Date

(h) This amendment becomes effective on May 24, 2004.

Issued in Renton, Washington, on April 6, 2004.
Kevin M. Mullin,
Acting Manager, Transport Airplane Directorate, Aircraft Certification Service.

[FR Doc. 04-8544 Filed 4-16-04; 8:45 am]

BILLING CODE 4910-13-P